DEPARTMENT OF HEALTH AND HUMAN SERVICES

Agency Information Collection Activity; Comment Request; State Developmental Disabilities Council 5-Year State Plan

AGENCY: Administration for Community Living, Administration on Intellectual and Developmental Disabilities, HHS.

ACTION: Notice.

SUMMARY: A Plan developed by the State Council on Developmental Disabilities is required by federal statute. Each State Council on Developmental Disabilities must develop the plan, provide for public comments in the State, provide for approval by the State's Governor, and finally submit the plan on a five-year basis. On an annual basis, the Council must review the plan and make any amendments. The State Plan will be used (1) by any amendments. The State Plan will be used (2) by the Council as a planning document; (3) by the citizenry of the State as a mechanism for commenting on the plans of the Council; (4) by the Department as a stewardship tool, for ensuring compliance with the Developmental Disabilities Assistance and Bill of Rights Act of 2000, as one basis for providing technical assistance (e.g., during site visits), and as a support for management decision making.

FOR FURTHER INFORMATION CONTACT: Valerie Bond, Administration on Community Living, Administration on Intellectual and Developmental Disabilities, Office of Program Support, One Massachusetts Avenue NW., Room 4302, Washington, DC 20201, 202-690-5841 or by email to: Valerie.Bond@aoa.hhs.gov.

SUPPLEMENTARY INFORMATION: In compliance with the requirements of Section 506(c)(2)(A) of the Paperwork Reduction Act of 1995, the Department specifically requests comments on: (a) Whether the proposed Collection of information is necessary for the proper performance of the function of the agency, including whether the information shall have practical utility; (b) the accuracy of the agency's estimate of the burden of the proposed collection of information; (c) the quality, utility, and clarity of the information to be collected; (d) ways to minimize the burden information to be collected; and (e) ways to minimize the burden of the collection of information on respondents, including through the use of automated collection technique comments and or other forms of information technology. Consideration will be given to comments and suggestions submitted within 30 days of this publication. In the Federal Register of February 10, 2014 (Vol. 79 No.27 Page 7676) the agency requested comments on the proposed collection of information. Comments were received and a summary provided in the Supporting Statement.

Respondents

56 State Developmental Disabilities Councils.

Annual Burden Estimates
Instrument | Number of respondents | Number of responses per respondent | Average burden hours per response | Total burden hours
State Developmental Disabilities Council 5-Year State Plan | 56 | 1 | 367 | 20,552

Estimated Total Annual Burden Hours: 20,552.

DATES: Submit written comments on the collection of information by August 25, 2014.

ADDRESSES: Submit written comments on the collection of information by fax 202.395.5806 or by email to OIRA_submission@omb.eop.gov, Attn: OMB Desk Officer for ACL, Office of Information and Regulatory Affairs, OMB.

Dated: July 18, 2014.
Kathy Greenlee,
Administrator and Assistant Secretary for Aging.

[FR Doc. 2014-17586 Filed 7-24-14; 8:45 am]

BILLING CODE 4154-01-P